DEPARTMENT OF COMMERCE

National Oceanic and Atmospheric Administration

Hydrographic Services Review Panel; Membership Solicitation

AGENCY: National Ocean Service, National Oceanic and Atmospheric Administration (NOAA), Department of Commerce.

ACTION: Notice of membership solicitation for Hydrographic Services Review Panel.

SUMMARY: This notice responds to the Hydrographic Services Improvement Act Amendments of 2002, Public Law 107-372, which requires the Under Secretary of Commerce for Oceans and Atmosphere to solicit nominations for membership on the Hydrographic Services Review Panel (the Panel). This advisory committee will advise the Under Secretary on matters related to the responsibilities and authorities set forth in section 303 of the Hydrographic Services Improvement Act of 1998, and such other appropriate matters as the Under Secretary refers to the Panel for review and advice.

DATES: Résumés should be sent to the address, e-mail, or fax specified and must be received by June 26, 2009.

ADDRESSES: Director, Office of Coast Survey, National Ocean Service, NOAA (N/CS), 1315 East West Highway, Silver Spring, MD 20910, fax: 301-713-4019, e-mail: Hydroservices.panel@noaa.gov.

FOR FURTHER INFORMATION CONTACT: Captain Steven Barnum, NOAA, Director, Office of Coast Survey, National Ocean Service (NOS), NOAA (N/CS), 1315 East West Highway, Silver Spring, Maryland 20910; Telephone: 301-713-2770, Fax: 301-713-4019; e-mail: steven.barnum@noaa.gov.

SUPPLEMENTARY INFORMATION: Under 33 U.S.C. 883a, et seq., NOAA's National Ocean Service (NOS) is responsible for providing nautical charts and related information for safe navigation. NOS collects and compiles hydrographic, tidal and current, geodetic, and a variety of other data in order to fulfill this responsibility. The Hydrographic Services Review Panel provides advice on topics such as “NOAA's Hydrographic Survey Priorities,” technologies relating to operations, research and development of data pertaining to:

(a) Hydrographic surveying;

(b) Nautical charting;

(c) Water level measurements;

(d) Current measurements;

(e) Geodetic measurements; and

(f) Geospatial measurements.

The Panel comprises fifteen voting members appointed by the Under Secretary in accordance with section 105 of Public Law 107-372. Members are selected on a standardized basis, in accordance with applicable Department of Commerce guidance. The Co-Director of the Joint Hydrographic Center and two other employees of the National Oceanic and Atmospheric Administration serve as nonvoting members of the Panel. The Director, Office of Coast Survey, serves as the Designated Federal Official (DFO). This solicitation is to obtain candidate applications for one current voting vacancy on the Panel, and for five voting members whose terms expire January 1, 2010, and candidates for voting members who might resign at any time during 2009. Be advised that some voting members whose terms expire January 1, 2010, may be reappointed for another full term if eligible.

Voting members are individuals who, by reason of knowledge, experience, or training, are especially qualified in one or more disciplines relating to hydrographic surveying, tides, currents, geodetic and geospatial measurements, marine transportation, port administration, vessel pilotage, and coastal or fishery management. An individual may not be appointed as a voting member of the Panel if the individual is a full-time officer or employee of the United States. Any voting member of the Panel who is an applicant for, or beneficiary of (as determined by the Under Secretary) any assistance under the Act shall disclose to the Panel that relationship, and may not vote on any other matter pertaining to that assistance.

Voting members of the Panel serve a four-year term, except that vacancy appointments shall be for the remainder of the unexpired term of the vacancy. Members serve at the discretion of the Under Secretary and are subject to government ethics standards. Any individual appointed to a partial or full term may be reappointed for one additional full term. A voting member may serve until his or her successor has taken office. The Panel selects one voting member to serve as the Chair and another to serve as the Vice Chair. The Vice Chair acts as Chair in the absence or incapacity of the Chair but will not automatically become the Chair if the Chair resigns. Meetings occur at least twice a year, and at the call of the Chair or upon the request of a majority of the voting members or of the Under Secretary. Voting members receive compensation at a rate established by the Under Secretary, not to exceed the maximum daily rate payable under section 5376 of title 5, United States Code, when engaged in performing duties for the Panel. Members are reimbursed for actual and reasonable expenses incurred in performing such duties.

Panel members selected to serve on the HSRP FACA committee must complete the following:

(a) Security Clearance (on-line Background Security Check process and fingerprinting conducted through NOAA Workforce Management);

(b) Confidential Financial Disclosure Report—As an SGE you are required to file a Confidential Financial Disclosure Report to avoid involvement in a real or apparent conflict of interest. You may find the Confidential Financial Disclosure Report at the following Web site: http://www.usoge.gov/forms/form_450.aspx.

(c) Certification of Status Statement (certifying statement that as an SGE you are not an agent of a foreign principal or a lobbyist—document provided by NOAA).

Dated: May 19, 2009.
Captain Steven Barnum,
NOAA, Director, Office of Coast Survey, National Ocean Service, National Oceanic and Atmospheric Administration.

[FR Doc. E9-12066 Filed 5-22-09; 8:45 am]

BILLING CODE P